FEDERAL COMMUNICATIONS COMMISSION

Open Commission Meeting, Thursday, February 14, 2019

February 7, 2019.

The Federal Communications Commission will hold an Open Meeting on the subjects listed below on Thursday, February 14, 2019 which is scheduled to commence at 10:30 a.m. in Room TW-C305, at 445 12th Street SW, Washington, DC.

Item No. | Bureau | Subject
1 | Wireline Competition | Title: Connect America Fund (WC Docket No. 10-90). Summary: The Commission will consider a Report and Order establishing a schedule to end Connect America Fund (CAF) Phase I support in price cap areas where winning bidders in the CAF Phase II auction will begin receiving Phase II support and in areas that were not eligible for the auction, while providing interim support in areas that did not receive any bids.
2 | Media | Title: Reexamination of the Comparative Standards and Procedures for Licensing Noncommercial Educational Broadcast Stations and Low Power FM Stations (MB Docket No. 19-3). Summary: The Commission will consider a Notice of Proposed Rulemaking that proposes revisions to the Commission's NCE and LPFM comparative processing and licensing rules.
3 | Media | Title: Elimination of Obligation to File Broadcast Mid-Term Report (Form 397) Under Section 73.2080(f)(2) (MB Docket No. 18-23); Modernization of Media Regulation Initiative (MB Docket No. 17-105). Summary: The Commission will consider a Report and Order eliminating the requirement in Section 73.2080(f)(2) of the Commission's rules that certain broadcast television and radio stations file the Broadcast Mid-Term Report (Form 397).
4 | Consumer & Governmental Affairs | Title: Misuse of Internet Protocol (IP) Captioned Telephone Services (CG Docket No. 13-24); Telecommunications Relay Services and Speech-to-Speech Services for Individuals with Hearing and Speech Disabilities (CG Docket No. 03-123). Summary: The Commission will consider a Report and Order, Further Notice of Proposed Rulemaking, and Order to adopt measures, and seek comment on others, to enhance program management, prevent waste, fraud, and abuse, and improve emergency call handling in the IP CTS program.
5 | Wireline Competition | Title: Implementing Section 503 of RAY BAUM'S Act (WC Docket No. 18-335); Rules and Regulation Implementing the Truth in Caller ID Act of 2009 (WC Docket No. 11-39). Summary: The Commission will consider a Notice of Proposed Rulemaking proposing to amend its Truth in Caller ID rules to implement the anti-spoofing provisions of the RAY BAUM'S Act.

* * * * *

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

For a fee this meeting can be viewed live over George Mason University's Capitol Connection. The Capitol Connection also will carry the meeting live via the internet. To purchase these services, call (703) 993-3100 or go to www.capitolconnection.gmu.edu.

Federal Communications Commission.
Marlene Dortch,
Secretary.

[FR Doc. 2019-02229 Filed 2-13-19; 8:45 am]

BILLING CODE 6712-01-P